DEPARTMENT OF LABOR

Employment & Training Administration

[SGA/DFA-PY-08-02]

Solicitation for Grant Applications (SGA); Community-Based Job Training Grants

AGENCY: Employment and Training Administration (ETA, Labor).

ACTION: Notice: Amendment to SGA/DFA-PY-08-02.

SUMMARY: The Employment and Training Administration published a document in the Federal Register on October 10, 2008, announcing the availability of funds and solicitation for grant applications (SGA) for Community-Based Job Training Grants to be awarded through a competitive process. This notice is the first amendment to the SGA and it amends the date for the Virtual Prospective Applicant conference that will be posted on ETA's Web site at http://www.doleta.gov/business/Community-BasedJob TrainingGrants.cfm.

Supplemental Information Correction: The Virtual Prospective Applicant Conference has been changed from Friday, October 24, 2008 at 1 p.m. Eastern Time to Tuesday, October 28, 2008 at 1 p.m. Eastern Time.

FOR FURTHER INFORMATION CONTACT: Chari Magruder, Grant Officer, Division of Federal Assistance, at (202) 693-3313.

DATES: Effective Date: This notice is effective October 20, 2008.

Signed at Washington, DC this 10th day of October, 2008.
Chari A. Magruder,
Grant Officer.

[FR Doc. E8-24867 Filed 10-17-08; 8:45 am]

BILLING CODE 4510-30-P